DEPARTMENT OF TRANSPORTATION

Federal Aviation Administration

14 CFR Part 97

[Docket No. 30580; Amdt. No. 3245]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 4, 2007. The compliance date for each SIAP, associated Takeoff Minimums, and ODP is specified in the amendatory provisions.

The incorporation by reference of certain publications listed in the regulations is approved by the Director of the Federal Register as of December 4, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry. J. Hodges, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the SIAPs, the associated Takeoff Minimums, and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on November 16, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 20 DEC 2007

Phoenix, AZ, Phoenix Sky Harbor Intl, ILS OR LOC RWY 7R, Amdt 1C

Oxnard, CA, Oxnard, ILS RWY 25, Amdt 12

Atlanta, GA, Peachtree City-Falcon Field, RNAV (GPS) RWY 13, Orig

Atlanta, GA, Peachtree City-Falcon Field, RNAV (GPS) RWY 31, Orig

Atlanta, GA, Peachtree City-Falcon Field, VOR/DME RNAV OR GPS RWY 31, Orig-D, (CANCELLED)

Jefferson, GA, Jackson County, RNAV (GPS) RWY 16, Orig-A

Jefferson, GA, Jackson County, RNAV (GPS) RWY 34, Orig-A

Jefferson City, MO, Jefferson City Memorial, RNAV (GPS) RWY 12, Orig

Jefferson City, MO, Jefferson City Memorial, GPS RWY 12, Orig-A, CANCELLED

Mosby, MO, Midwest National Air Center, ILS OR LOC/DME RWY 18, Orig

Mosby, MO, Midwest National Air Center, RNAV (GPS) RWY 18, Amdt 1

Mosby, MO, Midwest National Air Center, RNAV (GPS) RWY 36, Amdt 1A

Mosby, MO, Midwest National Air Center, NDB RWY 18, Amdt 2, CANCELLED

Mosby, MO, Midwest National Air Center, Takeoff Minimums and Obstacles DP, Amdt 1

Grand Island, NE, Central Nebraska Regional, VOR/DME RWY 31, Amdt 8

Grand Island, NE, Central Nebraska Regional, Takeoff Minimums and Obstacle DP, Orig

Scottsbluff, NE, Western Neb RGNL/William B Heilig Field, ILS OR LOC/DME RWY 12, Orig

Scottsbluff, NE, Western Neb RGNL/William B Heilig Field, RNAV (GPS) RWY 5, Orig

Scottsbluff, NE, Western Neb RGNL/William B Heilig Field, RNAV (GPS) RWY 12, Amdt 1

Scottsbluff, NE, Western Neb RGNL/William B Heilig Field, RNAV (GPS) RWY 23, Orig

Scottsbluff, NE, Western Neb RGNL/William B Heilig Field, RNAV (GPS) RWY 30, Amdt 1

Scottsbluff, NE, Western Neb RGNL/William B Heilig Field, LOC/DME RWY 12, Orig, CANCELLED

Scottsbluff, NE, Western Neb RGNL/William B Heilig Field, VOR/DME RWY 5, Amdt 5

Scottsbluff, NE, Western Neb RGNL/William B Heilig Field, VOR OR TACAN RWY 23, Amdt 12

Manchester, NH, Manchester, RNAV (GPS) RWY 24, Amdt 1

Manchester, NH, Manchester, Takeoff Minimums and Obstacle DP, Amdt 7

Jackson, OH, James A. Rhodes, Takeoff Minimums and Obstacle Departure, Amdt 4

Bartlesville, OK, Bartlesville Muni, RNAV (GPS) RWY 17, Orig

Bartlesville, OK, Bartlesville Muni, RNAV (GPS) RWY 35, Orig

Bartlesville, OK, Bartlesville Muni, LOC RWY 17, Amdt 3

Bartlesville, OK, Bartlesville Muni, VOR/DME RWY 35, Amdt 6

Bartlesville, OK, Bartlesville Muni, VOR RWY 17, Amdt 11

Bartlesville, OK, Bartlesville Muni, GPS RWY 17, Orig-B, CANCELLED

Bartlesville, OK, Bartlesville Muni, GPS RWY 35, Orig-B, CANCELLED

Bartlesville, OK, Bartlesville Muni, Takeoff Minimums and Obstacle DP, Orig

Myerstown, PA, Deck, RNAV (GPS) RWY 19, Orig-A

Somerset, PA, Somerset County, RNAV (GPS) RWY 7, Orig

Somerset, PA, Somerset County, RNAV (GPS) RWY 25, Orig

Somerset, PA, Somerset County, GPS RWY 7, Orig-B, CANCELLED

Somerset, PA, Somerset County, GPS RWY 25, Orig-B, CANCELLED

Somerset, PA, Somerset County, Takeoff Minimums and Obstacle DP, Amdt 2

Newport, RI, Newport State, Takeoff Minimums and Obstacle DP, Amdt 3

Arlington, TX, Arlington Muni, ILS OR LOC/DME RWY 34, Orig

Dallas-Fort Worth, TX, Dallas-Fort Worth Intl, Converging ILS RWY 17C, Amdt 6

Dallas-Fort Worth, TX, Dallas-Fort Worth Intl, Converging ILS RWY 17R, Amdt 8

Dallas-Fort Worth, TX, Dallas-Fort Worth Intl, Converging ILS RWY 18L, Amdt 1

Dallas-Fort Worth, TX, Dallas-Fort Worth Intl, Converging ILS Y RWY 18L, Orig-A, CANCELLED

Dallas-Fort Worth, TX, Dallas-Fort Worth Intl, Converging ILS RWY 18R, Amdt 5

Dallas-Fort Worth, TX, Dallas-Fort Worth Intl, Converging ILS RWY 35C, Amdt 1

Dallas-Fort Worth, TX, Dallas-Fort Worth Intl, Converging ILS RWY 35L, Amdt 3

Dallas-Fort Worth, TX, Dallas-Fort Worth Intl, Converging ILS RWY 36L, Amdt 1

Dallas-Fort Worth, TX, Dallas-Fort Worth Intl, Converging ILS RWY 36R, Amdt 2

Dallas-Fort Worth, TX, Dallas-Fort Worth Intl, ILS OR LOC RWY 17C, ILS RWY 17C (CAT II), ILS RWY 17C (CAT III), Amdt 9

Dallas-Fort Worth, TX, Dallas-Fort Worth Intl, ILS OR LOC RWY 17L, ILS RWY 17L (CAT II), ILS RWY 17L (CAT III), Amdt 5

Dallas-Fort Worth, TX, Dallas-Fort Worth Intl, ILS OR LOC RWY 17R, Amdt 22

Dallas-Fort Worth, TX, Dallas-Fort Worth Intl, ILS OR LOC RWY 18L, Amdt 1

Dallas-Fort Worth, TX, Dallas-Fort Worth Intl, ILS OR LOC Y RWY 18L, Orig-A, CANCELLED

Dallas-Fort Worth, TX, Dallas-Fort Worth Intl, ILS OR LOC RWY 18R, ILS RWY 18R (CAT II), ILS RWY (CAT III), Amdt 7

Dallas-Fort Worth, TX, Dallas-Fort Worth Intl, ILS OR LOC RWY 35C, ILS RWY 35C (CAT II), ILS RWY 35C (CAT III), Amdt 1

Dallas-Fort Worth, TX, Dallas-Fort Worth Intl, ILS OR LOC RWY 35L, Amdt 4

Dallas-Fort Worth, TX, Dallas-Fort Worth Intl, ILS OR LOC RWY 35R, ILS RWY 35R (CAT II), ILS RWY 35R (CAT III), Amdt 3

Dallas-Fort Worth, TX, Dallas-Fort Worth Intl, ILS OR LOC RWY 36L, Amdt 1

Dallas-Fort Worth, TX, Dallas-Fort Worth Intl, ILS OR LOC RWY 36R, Amdt 4

Dallas-Fort Worth, TX, Dallas-Fort Worth Intl, RNAV (GPS) RWY 17C, Amdt 1

Dallas-Fort Worth, TX, Dallas-Fort Worth Intl, RNAV (GPS) RWY 17L, Amdt 3

Dallas-Fort Worth, TX, Dallas-Fort Worth Intl, RNAV (GPS) RWY 17R, Amdt 1

Dallas-Fort Worth, TX, Dallas-Fort Worth Intl, RNAV (GPS) RWY 35C, Amdt 2

Dallas-Fort Worth, TX, Dallas-Fort Worth Intl, RNAV (GPS) RWY 35L, Amdt 1

Dallas-Fort Worth, TX, Dallas-Fort Worth Intl, RNAV (GPS) RWY 35R, Amdt 2

Dallas-Fort Worth, TX, Dallas-Fort Worth Intl, RNAV (GPS) RWY 36L, Amdt 1

Dallas-Fort Worth, TX, Dallas-Fort Worth Intl, RNAV (GPS) RWY 36R, Amdt 1

Effective 17 JAN 2008

Jamestown, KY, Russell County, Takeoff Minimums and Obstacle DP, Orig

Tupelo, MS, Tupelo Regional, Takeoff Minimums and Obstacle DP, Orig

The Dalles, OR, Columbia Gorge Rgnl/The Dalles Muni, RNAV (GPS)-A, Orig-A

Greenwood, SC, Greenwood County, Takeoff Minimums and Obstacle DP, Orig

Evanston, WY, Evanston-Uinta County Burns Field, ILS OR LOC/DME RWY 23, Amdt 1

Evanston, WY, Evanston-Uinta County Burns Field, RNAV (GPS) RWY 23, Amdt 4

Effective 14 FEB 2008

Fayette, AL, Richard Arthur Field, RNAV (GPS) RWY 18, Orig

Fayette, AL, Richard Arthur Field, RNAV (GPS) RWY 36, Orig

Fayette, AL, Richard Arthur Field, NDB RWY 18, Amdt 1

Fayette, AL, Richard Arthur Field, Takeoff Minimums and Obstacle DP, Amdt 1

Atwater, CA, Castle, VOR/DME RWY 13, Orig-A, CANCELLED

Monte Vista, CO, Monte Vista Muni, RNAV (GPS)-B, Orig

Monte Vista, CO, Monte Vista Muni, VOR/DME-A, Amdt 3

La Belle, FL, La Belle Muni, RNAV (GPS) RWY 14, Orig

La Belle, FL, La Belle Muni, RNAV (GPS) RWY 32, Orig

La Belle, FL, La Belle Muni, Takeoff Minimums and Obstacle DP, Orig

Taunton, MA, Taunton Muni-King Field, Takeoff Minimums and Obstacle DP, Amdt 2

Buffalo, NY, Buffalo Niagara Intl, NDB RWY 23, Orig, CANCELLED

Plattsburgh, NY, Clinton Co, VOR/DME OR GPS-A, Amdt 2A, CANCELLED

Plattsburgh, NY, Clinton Co, VOR OR GPS RWY 19, Amdt 3A, CANCELLED

Plattsburgh, NY, Clinton Co, ILS RWY 1, Amdt 4B, CANCELLED

Plattsburgh, NY, Clinton Co, Takeoff Minimums and Obstacle DP, Amdt 3, CANCELLED

Barnwell, SC, Barnwell RGNL, NDB RWY 17, Orig, CANCELLED

Charleston, WV, Yeager, Takeoff Minimums and Obstacle DP, Amdt 7

The FAA published an Amendment in Docket No. 30578, Amdt No. 3243 to Part 97 of the Federal Aviation Regulations (Vol 72, FR No. 221, Page 64536; dated November 16, 2007) under section 97.29 effective 20 December 2007, which is hereby rescinded as follows:

Yakima, WA, Yakima Air Terminal/Mcallister Field, ILS RWY 27, Amdt 26D.

[FR Doc. E7-23047 Filed 12-3-07; 8:45 am]

BILLING CODE 4910-13-P